DEPARTMENT OF TRANSPORTATION

Federal Aviation Administration

14 CFR Part 39

[Docket No. FAA-2005-23475; Directorate Identifier 2005-NM-117-AD; Amendment 39-14518; AD 2006-06-09]

RIN 2120-AA64

Airworthiness Directives; Empresa Brasileira de Aeronautica S.A. (EMBRAER) Model ERJ 170 Airplanes

AGENCY: Federal Aviation Administration (FAA), Department of Transportation (DOT).

ACTION: Final rule.

SUMMARY: The FAA is adopting a new airworthiness directive (AD) for all EMBRAER Model ERJ 170 airplanes. This AD requires revising the Airworthiness Limitations section (ALS) of the airplane maintenance manual (AMM) to include new, specific maintenance tasks related to the incorporation of a new horizontal stabilizer actuator. This AD also requires revising the ALS of the AMM to include revised repetitive inspection intervals for certain tasks in the maintenance plan related to the aileron and flap/slat flight controls system. This AD results from safety assessments of the aileron and flap/slat flight controls system, conducted after the type certification of the airplane, which showed that some dormant faults did not comply with the safety assessment criteria. We are issuing this AD to prevent failure of the aileron and flap/slat controls system, which could result in reduced controllability of the airplane.

DATES: This AD becomes effective April 26, 2006.

The Director of the Federal Register approved the incorporation by reference of a certain publication listed in the AD as of April 26, 2006.

ADDRESSES: You may examine the AD docket on the Internet at http://dms.dot.gov or in person at the Docket Management Facility, U.S. Department of Transportation, 400 Seventh Street, SW., Nassif Building, room PL-401, Washington, DC.

Contact Empresa Brasileira de Aeronautica S.A. (EMBRAER), P.O. Box 343—CEP 12.225, Sao Jose dos Campos—SP, Brazil, for service information identified in this AD.

FOR FURTHER INFORMATION CONTACT: Todd Thompson, Aerospace Engineer, International Branch, ANM-116, Transport Airplane Directorate, FAA, 1601 Lind Avenue, SW., Renton, Washington 98055-4056; telephone (425) 227-1175; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to all EMBRAER Model ERJ 170 airplanes. That NPRM was published in the Federal Register on January 4, 2006 (71 FR 290). That NPRM proposed to require revising the Airworthiness Limitations section (ALS) of the airplane maintenance manual (AMM) to include new, specific maintenance tasks related to the incorporation of a new horizontal stabilizer actuator. That NPRM also proposed to require revising the ALS of the AMM to include revised repetitive inspection intervals for certain tasks in the maintenance plan related to the aileron and flap/slat flight controls system.

Comments

We provided the public the opportunity to participate in the development of this AD. We have considered the single comment received. The commenter, the Airline Pilots Association, International, supports the NPRM.

Conclusion

We have carefully reviewed the available data, including the comment received, and determined that air safety and the public interest require adopting the AD as proposed.

Costs of Compliance

This AD will affect about 42 airplanes of U.S. registry. The required actions will take about 1 work hour per airplane, at an average labor rate of $65 per work hour. Based on these figures, the estimated cost of the AD for U.S. operators is $2,730, or $65 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-06-09 Empresa Brasileira de Aeronautica S.A. (EMBRAER): Amendment 39-14518. Docket No. FAA-2005-23475; Directorate Identifier 2005-NM-117-AD.

Effective Date

(a) This AD becomes effective April 26, 2006.

Affected ADs

(b) None.

Applicability

(c) This AD applies to all EMBRAER Model ERJ 170-100 LR, -100 STD, -100 SE, and -100 SU airplanes, certificated in any category.

Unsafe Condition

(d) This AD results from safety assessments of the aileron and flap/slat flight controls system, conducted after the type certification of the airplane, which showed that some dormant faults did not comply with the safety assessment criteria. We are issuing this AD to prevent failure of the aileron and flap/slat controls system, which could result in reduced controllability of the airplane.

Compliance

(e) You are responsible for having the actions required by this AD performed within the compliance times specified, unless the actions have already been done.

Airplane Maintenance Manual (AMM) Revisions

(f) Within 30 days after the effective date of this AD: Revise the Airworthiness Limitations section of the Instructions for Continued Airworthiness in the EMBRAER 170 AMM to include revisions to the maintenance tasks and repetitive inspections intervals, and applicable corrective actions that are approved by either the Manager, International Branch, ANM-116, Transport Airplane Directorate, FAA; or the Departmento de Aviacao Civil (DAC), (or its delegated agent). The revisions in paragraphs (f)(1) and (f)(2) of this AD are approved methods.

(1) EMBRAER Temporary Revision (TR) 1-3 of the EMBRAER 170 Maintenance Review Board (MRB) Report MRB-1621, dated December 27, 2004, to the EMBRAER 170 AMM includes revised repetitive inspection intervals for MRB tasks 27-11-00-002 (Operational Check of Control-Yoke Disconnect System) and 27-11-11-001 (Operational Check of Aileron Override Unit). Where the revision requires a compliance time that is less than 700 flight hours after the effective date of this AD, do the action within 700 flight hours after the effective date of this AD. Thereafter, except as provided by paragraph (h) of this AD, no alternative inspection intervals may be approved.

(2) The revised EMBRAER 170 AMM maintenance tasks identified in Table 1 of this AD include new maintenance tasks and inspections related to the incorporation of a new horizontal stabilizer actuator. Thereafter, except as provided by paragraph (h) of this AD, no alternative tasks or inspections may be approved.

Table 1.—EMBRAER 170 AMM Maintenance Tasks
AMM chapter | Task Nos. | Date | Title
27-11-03 | 27-11-03-710-801-A, 27-11-03-720-801-A | January 25, 2005 | Aileron Control Cable-Adjustment/Test.
27-41-01 | 27-41-01-210-801-A, 27-41-01-220-801-A, 27-41-01-220-802-A | January 25, 2005 | Horizontal Stabilizer Trim Actuator—Inspection/Check.
27-81-01 | 27-81-01-710-801-A | January 25, 2005 | Slat Actuator—Adjustment/Test.

Alternative Methods of Compliance (AMOCs)

(g)(1) The Manager, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(h) Brazilian airworthiness directive 2005-03-02, effective April 20, 2005, also addresses the subject of this AD.

Material Incorporated by Reference

(i) You must use EMBRAER Temporary Revision 1-3 of the EMBRAER 170 Maintenance Review Board Report MRB-1621, dated December 27, 2004, to the EMBRAER 170 Airplane Maintenance Manual, to perform the actions that are required by this AD, unless the AD specifies otherwise. The Director of the Federal Register approved the incorporation by reference of this document in accordance with 5 U.S.C. 552(a) and 1 CFR part 51. Contact Empresa Brasileira de Aeronautica S.A. (EMBRAER), P.O. Box 343—CEP 12.225, Sao Jose dos Campos—SP, Brazil, for a copy of this service information. You may review copies at the Docket Management Facility, U.S. Department of Transportation, 400 Seventh Street SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on March 10, 2006.
Kalene C. Yanamura,
Acting Manager, Transport Airplane Directorate, Aircraft Certification Service.

[FR Doc. 06-2675 Filed 3-21-06; 8:45 am]

BILLING CODE 4910-13-P